FEDERAL DEPOSIT INSURANCE CORPORATION

Notice of Agency Sunshine Act Meeting

Pursuant to the provisions of the “Government in the Sunshine Act” (5 U.S.C. 552b) , notice is hereby given that the Federal Deposit Insurance Corporation's Board of Directors will meet in open session at 10 a.m. on Thursday, February 15, 2007, to consider the following matters:

Summary Agenda: No substantive discussion of the following items is anticipated. These matters will be resolved with a single vote unless a member of the Board of Directors requests that an item be moved to the discussion agenda.

Summary reports, status reports, and reports of actions taken pursuant to authority delegated by the Board of Directors.

Memorandum re: Recommendation that the Board Approve Notice of New and Altered Privacy Act Systems of Records.

Memorandum re: Studies and Reports to Congress Required by the Federal Deposit Insurance Reform Conforming Amendments Act of 2005.

Discussion Agenda:

Memorandum re: Assessment Rate Adjustment Guidelines for Large Institutions and Insured Foreign Branches in Risk Category I.

Memorandum re: Proposed Basel II Capital Framework: Supervisory Guidance on Internal Ratings-Based Systems, Advanced Measurement Approaches, and Pillar 2/Internal Capital Adequacy Assessment Process.

The meeting will be held in the Board Room on the sixth floor of the FDIC Building located at 550 17th Street, NW., Washington, DC.

The FDIC will provide attendees with auxiliary aids (e.g., sign language interpretation) required for this meeting. Those attendees needing such assistance should call (703) 562-6067 (Voice or TTY), to make necessary arrangements.

Requests for further information concerning the meeting may be directed to Mr. Robert E. Feldman, Executive Secretary of the Corporation, at (202) 898-7122.

Dated: February 8, 2007.
Federal Deposit Insurance Corporation.
Robert E. Feldman,
Executive Secretary.

[FR Doc. 07-676 Filed 2-9-07; 12:30 pm]

BILLING CODE 6714-01-M